OFFICE OF NATIONAL DRUG CONTROL POLICY

Designation of Eight Counties as High Intensity Drug Trafficking Areas

AGENCY: Office of National Drug Control Policy.

ACTION: Notice.

SUMMARY: The Director of the Office of National Drug Control Policy has designated eight additional counties as High Intensity Drug Trafficking Areas pursuant to 21 U.S.C. 1706. The new counties are (1) Orange County in New York as part of the New York/New Jersey HIDTA; (2) Medocino County in California as part of the Northern California HIDTA; (3) Porter County in Indiana as part of the Lake County HIDTA; (4) Lexington and Richland Counties in South Carolina as part of the Atlanta HIDTA; (5) Harford County in Maryland as part of the Washington/Baltimore HIDTA; (6) Putnam and Mercer Counties in West Virginia as part of the Appalachia HIDTA.

FOR FURTHER INFORMATION: Please direct any questions to Travis Norvell, Policy Analyst, National HIDTA Program, Office of National Drug Control Policy, Executive Office of the President, Washington, DC 20502; (202) 395-6789.

Daniel R. Petersen,
Deputy General Counsel.

[FR Doc. 2011-18749 Filed 7-25-11; 8:45 am]

BILLING CODE 3180-02-P